DEPARTMENT OF THE TREASURY

Internal Revenue Service

26 CFR Part 1

[REG-125638-01]

RIN 1545-BA00

Guidance Regarding Deduction and Capitalization of Expenditures; Correction

AGENCY: Internal Revenue Service (IRS), Treasury.

ACTION: Correction to notice of proposed rulemaking and notice of public hearing.

SUMMARY: This document contains corrections to a notice of proposed rulemaking and notice of public hearing that explains how section 263(a) of the Internal Revenue Code (Code) applies to amounts paid to acquire, create, or enhance intangible assets. This document was published in the Federal Register on December 19, 2002 (67 FR 77701).

FOR FURTHER INFORMATION CONTACT: Andrew J. Keyso (202) 927-9397 (not a toll-free number).

SUPPLEMENTARY INFORMATION:

Background

The proposed regulations that are the subject of these corrections are under sections 263(a), 167, and 446 of the Internal Revenue Code.

Need for Correction

As published, the proposed regulations REG-125638-01, contains errors that may prove to be misleading and are in need of clarification.

Correction of Publication

Accordingly, the publication of the proposed regulations REG-125638-01, which is the subject of FR Doc. 02-31859, is corrected as follows:

1. On page 77704, column 1, in the preamble, under the paragraph heading “Amounts Paid to Obtain or Modify Contract Rights”, paragraph 4, the last two lines of the paragraph, the language “agreement is a separate and distinct asset” is corrected to read “agreement is a separate and distinct intangible asset”.

§ 1.263(a)-4 [Corrected]

2. On page 77722, column 2, § 1.263(a)-4, paragraph (h)(4)(i), line 6, the language “(relating to de minimis applicable to” is corrected to read “(relating to de minimis rules applicable to”.

Cynthia E. Grigsby,
Chief, Regulations Unit, Associate Chief Counsel, (Procedure and Administration).

[FR Doc. 03-2332 Filed 1-30-03; 8:45 am]

BILLING CODE 4830-01-P